DEPARTMENT OF LABOR

Employment and Training Administration

[TA-W-65,153]

Rockwell Automation, Incorporated, Engineered to Order Division, Richland Center, WI; Notice of Termination of Investigation

Pursuant to Section 221 of the Trade Act of 1974, as amended, an investigation was initiated on February 6, 2009 in response to a petition filed on behalf of workers of Rockwell Automation, Incorporated, Engineered to Order Division, Richland Center, Wisconsin.

The petitioner has requested that the petition be withdrawn. Consequently, the investigation has been terminated.

Signed at Washington, DC, this 7th day of April 2009.
Linda G. Poole,
Certifying Officer, Division of Trade Adjustment Assistance.

[FR Doc. E9-10568 Filed 5-6-09; 8:45 am]

BILLING CODE 4510-FN-P